DEPARTMENT OF COMMERCE

National Oceanic and Atmospheric Administration

[RTID: 0648-XA462]

Draft Supplemental Programmatic Environmental Assessment for Fisheries Research Conducted and Funded by the Northeast Fisheries Science Center

AGENCY: National Marine Fisheries Service (NMFS), National Oceanic and Atmospheric Administration (NOAA), Commerce.

ACTION: Notice of availability, request for comments.

SUMMARY: NMFS announces the availability of the “Draft Supplemental Programmatic Environmental Assessment (SPEA) for Fisheries Research Conducted and Funded by the Northeast Fisheries Science Center.” Publication of this notice begins the official public comment period for this SPEA. The purpose of this Draft SPEA is to evaluate potential direct, indirect, and cumulative effects of changes in research that were not analyzed in the 2016 NEFSC Programmatic Environmental Assessment (PEA), or new research activities along the U.S. East Coast, from North Carolina to Nova Scotia, Canada. Where necessary, updates to certain information on species, stock status or other components of the affected environment that may result in different conclusions from the 2016 PEA are presented in this analysis.

DATES: Comments and information must be received no later than October 19, 2020.

ADDRESSES: Comments on the Draft SPEA should be addressed to Victor A. Nordahl Jr, Environmental Compliance Specialist, 166 Water St. Woods Hole, MA 02543.

The mailbox address for providing email comments is: nmfs.nefsc.spea@noaa.gov. NMFS is not responsible for email comments sent to addresses other than the one provided here. Comments sent via email, including all attachments, must not exceed a 10-megabyte file size.

A copy of the Draft SPEA may be obtained by writing to the address specified above, telephoning the contact listed below (see FOR FURTHER INFORMATION CONTACT), or visiting the internet at: www.fisheries.noaa.gov/action/draft-supplemental-programmatic-environmental-assessment-nefsc-research-now-available. Documents cited in this notice may also be viewed, by appointment, during regular business hours at the aforementioned address.

FOR FURTHER INFORMATION CONTACT: Victor A. Nordahl Jr., email: vic.nordahl@noaa.gov, phone: (508-495-2350).

SUPPLEMENTARY INFORMATION: The NEFSC is the research arm of NMFS in the Northeast Region. The purpose of NEFSC fisheries research is to produce scientific information necessary for the management and conservation of living marine resources along the U.S. East Coast Exclusive Economic Zone (EEZ) Federal waters from North Carolina to Nova Scotia, Canada. NEFSC's research is needed to promote both the long-term sustainability of the resource and the recovery of certain species, while generating social and economic opportunities and benefits from their use. Primary research activities include: seasonal bottom trawl surveys to support assessments of ground fish; a summer bottom trawl survey to support the assessment of Northern Shrimp; seasonal mid-water pelagic surveys to support the assessment of semi-pelagic fish species; summer dredge and optical surveys to support the assessment of Deep-sea scallops; summer hydraulic dredge surveys to support assessment of surf clams and ocean quahogs; bottom longline surveys for ground fish in the Gulf of Maine; bottom and pelagic Apex Predator long line surveys; opportunistic trawl comparison studies; ecosystem based plankton surveys; inshore Penobscot Bay trawl and acoustic surveys; and Fisheries Observer Training trips (all gears) in the EEZ.

NMFS has prepared the Draft SPEA under NEPA to evaluate two alternatives for conducting and funding fisheries and ecosystem research activities as the primary Federal action. Additionally in the Draft SPEA, NMFS evaluates a related action—also called a “connected action” under 40 CFR 1508.25 of the Council on Environmental Quality's regulations for implementing the procedural provisions of NEPA (42 U.S.C. 4321 et seq.)—which is the proposed promulgation of regulations and authorization of the take of marine mammals incidental to the fisheries research under the Marine Mammal Protection Act (MMPA). Additionally, because the proposed research activities occur in areas inhabited by species of marine mammals, birds, sea turtles and fish listed under the Endangered Species Act (ESA) as threatened or endangered, this Draft SPEA evaluates activities that could result in unintentional takes of ESA-listed marine species.

The following (2) alternatives are currently evaluated in the Draft SPEA.

• Alternative 1—Continue current fisheries and ecosystem research (Status Quo/no action) as described in the 2016 NEFSC PEA.

• Alternative 2—Conduct current research with some modifications as well as new research activities that are planned for the future (i.e., 2021-2026). New future research proposed under Alternative 2 was not previously analyzed in the 2016 PEA.

The alternatives include a program of fisheries and ecosystem research projects conducted or funded by the NEFSC as the primary Federal action. Because this primary action is connected to a secondary Federal action, to consider authorizing incidental take of marine mammals under the MMPA, NMFS must identify as part of this evaluation the means of effecting the least practicable adverse impact on the species or stock and its habitat. (Section 101(a)(5)(A) of the MMPA;16 U.S.C. 1361 et seq.) NMFS must therefore identify and evaluate a reasonable range of mitigation measures to minimize impacts to protected species that occur in NEFSC research areas. These mitigation measures are considered as part of the identified alternatives in order to evaluate their effectiveness to minimize potential adverse environmental impacts. The two action alternatives also include mitigation measures intended to minimize potentially adverse interaction with other protected species that occur within the action area. Protected species include all marine mammals, which are covered under the MMPA, all species listed under the ESA, and bird species protected under the Migratory Bird Treaty Act.

Potential direct and indirect effects on the environment are evaluated under each alternative in the Draft SPEA. The environmental effects on the following resources are considered: Physical environment, special resource areas, fish, marine mammals, birds, sea turtles, invertebrates, and the social and economic environment. Cumulative effects of external actions and the contribution of fisheries research activities to the overall cumulative impact on the aforementioned resources is also evaluated in the Draft SPEA for the geographic regions in which NEFSC surveys are conducted.

NMFS requests comments on the Draft SPEA for Fisheries Research Conducted and Funded by the National Marine Fisheries Service, Northeast Fisheries Science Center. Please include, with your comments, any supporting data or literature citations that may be informative in substantiating your comment.

Dated: September 9, 2020.
Garth Edwin Smelser,
Chief Operations, Management and Information Division, National Marine Fisheries Service.

[FR Doc. 2020-20636 Filed 9-17-20; 8:45 am]

BILLING CODE 3510-22-P